ENVIRONMENTAL PROTECTION AGENCY

[EPA-HQ-OECA-2007-0049; FRL-8505-8]

Agency Information Collection Activities; Submission to OMB for Review and Approval; Comment Request; NSPS for Hospital/Medical/Infectious Waste Incinerators (Renewal); EPA ICR Number 1730.06, OMB Control Number 2060-0363

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before January 14, 2008.

ADDRESSES: Submit your comments, referencing docket ID number EPA-HQ-OECA-2007-0049, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On March 9, 2007 (72 FR 10735), EPA sought comments on this ICR pursuant to 5 CFR 1320.8(d). EPA received no comments. Any additional comments on this ICR should be submitted to EPA and OMB within 30 days of this notice.

EPA has established a public docket for this ICR under docket ID number EPA-HQ-OECA-2007-0049, which is available for public viewing online at http://www.regulations.gov, or in person viewing at the Enforcement and Compliance Docket and Information Center in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, Confidential Business Information (CBI), or other information whose public disclosure is restricted by statute. For further information about the electronic docket, go to http://www.regulations.gov.

Title: NSPS for Hospital/Medical/Infectious Waste Incinerators (40 CFR part 60, subpart Ec).

ICR Numbers: EPA ICR Number 1730.06, OMB Control Number 2060-0363.

ICR Status: This ICR is scheduled to expire on December 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The New Source Performance Standards (NSPS) for Hospital/Medical/ Infectious Waste Incinerators (HMIWI), 40 CFR part 60, subpart Ec, were promulgated on September 15, 1997. These standards apply to HMIWIs for which construction commenced after June 20, 1996, or for which modification commenced after the effective date of the NSPS. Notification reports are required upon the construction, reconstruction, or modification of an HMIWI. Also, required are one-time-only reports of initial performance test data and continuous measurements of site-specific operating parameters. Annual compliance reports are required on a variety of site-specific operating parameters, including exceedance of applicable limits. Semiannual compliance reports of emission rates or operating parameter data that were not obtained when exceedances of applicable limits occurred. Affected entities must retain reports and records for two years under 40 CFR part 60, subpart Ec and 40 CFR part 60, subpart A—General Provisions.

Co-fired combustors and incinerators burning only pathological, low-level radioactive, and/or chemotherapeutic waste are required to submit notification reports of an exemption claim, and an estimate of the relative amounts of waste and fuels to be combusted. These co-fired combustors and incinerators are also required to maintain records on a calendar quarter basis, of the weight of hospital waste combusted, the weight of medical/infectious waste combusted, and the weight of all other fuels and waste combusted.

All reports required under NSPS and the General Provisions are submitted to the respondent's state, tribal, or a local agency, whichever has been delegated enforcement authority by the EPA. The information is used by the EPA solely to determine that all sources subject to the NSPS are in compliance, and that the control system installed to comply with the standards is being properly operated and maintained. Based on reported information, EPA can decide which facilities should be inspected and what records or processes should be inspected at the facilities. The records that the owner/operators maintain would indicate to EPA whether facility personnel are operating and maintaining control equipment properly. Owners or operators are also required to maintain records of the occurrence and duration of any startup, shutdown, or malfunction in the operation of an affected facility, or any period during which the monitoring system is inoperative. These notification, reports, and records are essential in determining compliance and are required of all sources subject to NSPS.

Any owner or operator subject to the provisions of this part shall maintain a file of these measurements, and retain the file for at least two years following the date of such measurements, maintenance reports, and records. All reports are sent to the delegated state or local authority. In the event that there is no such delegated authority, the reports are sent directly to the EPA regional office. This information is being collected to assure compliance with 40 CFR part 60, subpart Ec, as authorized in section 112 and 114(a) of the Clean Air Act. The required information consists of emissions data and other information that have been determined to be private.

An Agency may not conduct or sponsor, and a person is not required to respond to, a collection of information unless it displays a currently valid OMB Control Number. The OMB Control Number for EPA's regulations are listed in 40 CFR part 9 and 48 CFR chapter 15, and are identified on the form and/or instrument, if applicable.

Burden Statement: The annual public reporting and recordkeeping burden for this collection of information is estimated to average 195 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Facilities burning hospital waste and/or medical infectious waste.

Estimated Number of Respondents: 9.

Frequency of Response: Initially, annually and semiannually.

Estimated Total Annual Hour Burden: 6,617.

Estimated Total Annual Cost: $683,312, which includes $2,000 annualized Capital Startup costs, $25,000 annualized Operating and Maintenance (O&M) costs, and $656,312 annualized Labor costs.

Changes in the Estimates: There is an increase in the total estimated burden as currently identified in the OMB Inventory of Approved Burdens; however, there have been no program changes.

The industry is experiencing some growth; therefore, there is an increase in the number of new sources. In addition, the revised hourly rate has been updated (increased) and calculation errors in the previous ICR were corrected.

There is also an increase in the capital/startup and operations and maintenance (O&M) cost which is due to the increase in the number of new sources.

Dated: December 6, 2007.
Sara Hisel-McCoy,
Director, Collection Strategies Division.

[FR Doc. E7-24158 Filed 12-12-07; 8:45 am]

BILLING CODE 6560-50-P